INTERNATIONAL TRADE COMMISSION

Sunshine Act Meeting

AGENCY HOLDING THE MEETING: United States International Trade Commission.

TIME AND DATE: May 5, 2000 at 11:00 a.m.

PLACE: Room 101, 500 E Street S.W., Washington, DC 20436, Telephone: (202) 205-2000.

STATUS: Open to the public.

MATTERS TO BE CONSIDERED:

1. Agenda for future meeting: none.

2. Minutes.

3. Ratification List.

4. Inv. Nos. 731-TA-825-826 (Final)(Polyester Staple Fiber from Korea and Taiwan)—briefing and vote. (The Commission will transmit its determination to the Secretary of Commerce on May 15, 2000.)

5. Outstanding action jackets:

(1) Document No. ER-00-001: Approval of FY 1999 Annual Report.

(2) Document No. ID-00-005: Approval of 2000 Annual Report in Inv. No. 332-345 (Recent Trends in U.S. Services Trade).

In accordance with Commission policy, subject matter listed above, not disposed of at the scheduled meeting, may be carried over to the agenda of the following meeting.

Issued: April 25, 2000.
By order of the Commission.
Donna R. Koehnke,
Secretary.

[FR Doc. 00-11010 Filed 4-28-00; 2:16 pm]

BILLING CODE 7020-02-P